DEPARTMENT OF LABOR

Employment and Training Administration

[TA-W-52,546]

Baxter Healthcare, Inc., Bioscience Division, Rochester, MI; Notice of Termination of Investigation

Pursuant to Section 221 of the Trade Act of 1974, as amended, an investigation was initiated on August 12, 2003 in response to a petition filed by a company official on behalf of workers of Baxter Healthcare, Inc., Bioscience Division, Rochester, Michigan.

The petitioning group of workers is covered by an earlier petition filed on July 28, 2003 (TA-W-52,409) that is the subject of an ongoing investigation for which a determination has not yet been issued. Further investigation in this case would duplicate efforts and serve no purpose; therefore the investigation under this petition has been terminated.

Signed at Washington, DC, this 5th day of September, 2003.
Richard Church,
Certifying Officer, Division of Trade Adjustment Assistance.

[FR Doc. 03-27452 Filed 10-30-03; 8:45 am]

BILLING CODE 4510-30-P